NUCLEAR REGULATORY COMMISSION

Sunshine Act Meeting

DATE: Weeks of December 2, 9, 16, 23, 30, 2002, January 6, 2003.

PLACE: Commissioner's Conference Room, 11555 Rockville Pike, Rockville, Maryland.

MATTERS TO BE CONSIDERED:

Week of December 2, 2002

Wednesday, December 4, 2002

8:45 a.m.

Discussion of security issues (closed-Ex. 1)

10 a.m.

Briefing on decommissioning bankruptcy issues (closed-Ex. 4&9)

Week of December 9, 2002—Tenative

There are no meetings scheduled for the week of December 9, 2002.

Week of December 16, 2002—Tenative

Tuesday, December 17, 2002

9:30 a.m.

Briefing on policy options and recommendations for revising the NRC's process for handling discrimination issues (public meeting) (contact: Ho Nieh, 301-415-1721)

This meeting will be webcast live at the Web address— www.nrc.gov.

Wednesday, December 18, 2002

9:30 a.m.

Meeting with Advisory Committee on Nuclear Waste (ACNW) (public meeting) (contact: John Larkins, 301-415-7360)

This meeting will be webcast live at the Web address— www.nrc.gov.

Week of December 23, 2002—Tentative

There are no meetings scheduled for the week of December 23, 2002.

Week of December 30, 2002—Tentative

There are no meetings scheduled for the week of December 30, 2002.

Week of January 6, 2003—Tentative

There are no meetings scheduled for the week of January 6, 2003.

The schedule for Commission meetings is subject to change on short notice. To verify the status of meeting call (recording)—(301) 415-1292. Contact persons for more information: R. Michelle Schroll (301) 415-1662.

* * * * *

The NRC Commission Meeting Schedule can be found on the Internet at : www.nrc.gov/what-we-do/policy-making/schedule/html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 27, 2002.
R. Michelle Schroll,
Acting Technical Coordinator, Office of the Secretary.

[FR Doc. 02-30703 Filed 11-29-02; 8:45 am]

BILLING CODE 7590-01-M